ENVIRONMENTAL PROTECTION AGENCY

40 CFR Part 52

[EPA-R05-OAR-2008-0448; FRL-9450-1]

Approval and Promulgation of Air Quality Implementation Plans; Minnesota; Rules Update

AGENCY: Environmental Protection Agency (EPA).

ACTION: Direct final rule.

SUMMARY: EPA is taking several actions on a revision to the Minnesota State Implementation Plan (SIP) which updates Minnesota's rules in the SIP. The Minnesota Pollution Control Agency (MPCA) submitted the SIP revision to EPA on May 5, 2008. The revisions to Minnesota's air quality rules reflect changes that have occurred to the state rules since 1998. EPA is approving the majority of MPCA's submittal, which will result in consistent enforceability of rules at the state and Federal levels. EPA is deferring action on two sections of Minnesota's rules related to the state's operating permit program. Finally, EPA is disapproving the state's request to remove the Minneapolis/St. Paul vehicle inspection and maintenance program from the Minnesota SIP. These actions are consistent with the Clean Air Act (CAA) and EPA regulations.

DATES: This direct final rule will be effective October 11, 2011, unless EPA receives adverse comments by September 9, 2011. If adverse comments are received, EPA will publish a timely withdrawal of the direct final rule in the Federal Register informing the public that the rule will not take effect.

ADDRESSES: Submit your comments, identified by Docket ID No. EPA-R05-OAR-2008-0448, by one of the following methods:

1. http://www.regulations.gov: Follow the on-line instructions for submitting comments.

2. E-mail: aburano.douglas@epa.gov.

3. Fax: (312)408-2279.

4. Mail: Doug Aburano, Chief, Control Strategies Section, Air Programs Branch (AR-18J), U.S. Environmental Protection Agency, 77 West Jackson Boulevard, Chicago, Illinois 60604.

5. Hand Delivery: Doug Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2008-0448. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Christos Panos, Environmental Engineer, at (312)353-8328, before visiting the Region 5 office.

FOR FURTHER INFORMATION CONTACT: Christos Panos, Environmental Engineer, Attainment Planning and Maintenance Section, Air Programs Branch (AR-18J), U.S. Environmental Protection Agency, Region 5, 77 West Jackson Boulevard, Chicago, Illinois 60604, (312)353-8328, panos.christos@epa.gov.

SUPPLEMENTARY INFORMATION: Throughout this document whenever “we,” “us,” or “our” is used, we mean EPA. This supplementary information section is arranged as follows:

I. Review of State Submittal

II. What action is EPA taking?

III. Statutory and Executive Order Reviews

I. Review of State Submittal

Since EPA last approved rules into the Minnesota SIP in 1998, Minnesota has revised or updated many of its air rules. These revisions have not been incorporated into the Minnesota SIP. This has resulted in out-of-date rules in the Minnesota SIP, which can result in inconsistent enforceability of rules at the state and Federal levels. On May 5, 2008, the Minnesota Pollution Control Agency (MPCA) submitted a request to update the rules contained in the Minnesota SIP to be consistent with the rules changes that have occurred at the state level, as well as to remove a number of regulations that have been repealed by the state and no longer need to be included in the Minnesota SIP. The following sections of Minnesota's air rules have undergone changes: Minnesota Rules chapter 7001 Permits and Certifications; Minn. R. ch. 7002 Permit Fees; Minn. R. ch. 7005 Definitions and Abbreviations; Minn. R. ch. 7007 Air Emissions Permits; Minn. R. ch. 7008 Exempt Air Emissions; Minn. R. ch. 7009 Ambient Air Quality Standards; Minn. R. ch. 7011 Standards for Stationary Sources; Minn. R. ch. 7017 Monitoring and Testing Requirements; Minn. R. ch. 7019 Emission Inventory Requirements; Minn. R. ch. 7023 Mobile and Indirect Sources. All rule changes were made under the MPCA's rulemaking authority and went through appropriate public participation procedures as required by state law. The rule revisions do not adversely affect the air quality in the state of Minnesota and are being approved for their SIP strengthening purposes.

Summary of Changes to Minnesota's Air Rules

Minnesota performed a series of so-called “Omnibus” rulemakings to implement minor changes, correct mistakes, clarify requirements, and address comments from industry, MPCA, and EPA to previously adopted rules. Most of these changes were minor and were not significant enough to warrant individual rulemakings. The changes correct and improve rules to make them more understandable, up-to-date, and streamlined. Summaries of the more significant changes to the rules are described below.

The amendments to Minn. R. ch. 7005 add definitions that are used in Minn. R. ch. 7007, 7008, and 7011. For example, the definition of “emission factors” has changed to reflect inclusion of Hazardous Air Pollutants in EPA databases, to remove the obsolete AIRS database, and to remove the implied hierarchy of emission factor sources. Other changes to Minn. R. ch. 7005 include changes to the definitions of “construction” and “begin actual construction” (and removal of the term “commence” and its definition) for consistency with the EPA definitions and to clarify what activities may occur prior to obtaining a permit.

In Minn. R. ch. 7009, MPCA updated the rule to reflect changes to the ozone and PM2.5 National Ambient Air Quality Standards (NAAQS). The state also made changes to the rule to clarify which facilities are required to prepare emission reduction plans and clarified the requirements for submitting these plans to the MPCA.

In Minn. R. ch. 7011, MPCA clarified that the control equipment rules, Minn. R. 7011.0060 to 7011.0080, apply to facilities that elected to use default control efficiencies, monitoring and recordkeeping requirements, and updated the rules so that they reflect modern day control assumptions and can potentially be utilized by more permittees to help them determine permit applicability. In addition, changes were made to the pollution control equipment listed in the table in Minn. R. 7011.0080 to define certain terms, to add listed control equipment, and to otherwise clarify requirements for control efficiency and control equipment operation and monitoring.

In Minn. R. 7011.0900-0922, MPCA amended the asphalt concrete plant rules by adding performance standards for hot mix asphalt plants. The amendments to the asphalt plant performance standards added operation, record keeping, and monitoring requirements for hot mix asphalt plant control equipment and dryer burners, outlined performance test frequency which is dependent on control equipment type, changed the opacity standard for existing plants to remove allowance of opacity excursions, listed materials allowed to be processed by hot mix asphalt plants, and allowed small production throughput increases for all plants which test at less than 80% of their emission limit and additional increase for plants with baghouses whose tested emission rate is less than 50% of their emission limit.

The changes to Minn. R. ch. 7017 relate to the use of two types of Continuous Monitoring Systems (CMS)—Continuous Emission Monitoring Systems (CEMS) and Continuous Opacity Monitoring Systems (COMS). Prior to the revisions, CMS related requirements were scattered throughout a number of locations within Minnesota's rules. The current SIP approved CEMS rule, Minn. R. 7017.1000, was repealed and replaced with more detailed CMS rules which consolidated all CMS requirements. Minn. R. 7017.1002 to 7017.1220 identify which facilities are required to install CMS and the various testing, installation, certification, operational and design requirements for the monitoring systems. The revised CMS rules also delineate the recordkeeping and submittal requirements. All facilities which report CMS derived emissions data to MPCA will be subject to the requirements of the revised CMS rules.

Amendments that MPCA made to Minn. R. ch. 7019 include changes related to emission inventory requirements such as: added ammonia as an inventory pollutant; increased allowable capture efficiency for VOC controls with hoods from 60 to 80 percent; allow the use of stack test data up to 10 years old; and, for stack test data over 10 years old, to allow the use of the higher of either the emission factor derived from the stack test or the default emission factor.

EPA Deferred Actions

Minnesota also made several changes to Minn. R. ch. 7007, including rules to implement Minnesota's operating permit program under Title V of the CAA. EPA expressed concerns about the approvability of certain amended provisions related to the state's Title V operating permit program. Therefore, in a letter dated December 13, 2010, MPCA withdrew its submittal of Minn. R. ch. 7007 for inclusion into the Minnesota SIP. Although MPCA indicated in their December 13, 2010, letter that Minn. R. 7007.5000, relating to Best Available Retrofit Technology, should be approved into the SIP, MPCA also stated that they made the same request to approve Minn. R. 7007.5000 in their December 30, 2009, submittal of the Minnesota Regional Haze SIP. EPA will therefore defer rulemaking on Minn. R. 7007.5000 until it takes action on the Minnesota Regional Haze SIP. In addition, because of the permitting relationship to Minn. R. ch. 7007, EPA will defer rulemaking on changes to Minn. R. ch. 7002 and Minn. R. ch. 7008 until MPCA resubmits Minn. R. ch. 7007 for approval into the SIP. (Minn. R. ch. 7002 addresses permit fees and Minn. R. ch. 7008 addresses permit exemptions and insignificant activities for purposes of Minn. R. ch. 7007.)

Elimination of Regulations

In their May 5, 2008, submittal MPCA also requested the removal from the SIP of several obsolete rules that were repealed by the state in 2005. This included changes to Minn. R. ch. 7001, which established permits and certifications issued by the MPCA. Language currently in the SIP governing mobile sources and indirect source permits for parking facilities is also obsolete as the rules governing indirect source permits were repealed by the Minnesota Legislature in 2001. The portions of Minn. R. ch. 7001 that were retained by MPCA do not relate to air permits or any air quality related requirements. Therefore, EPA is granting MPCA's request for removal of Minn. R. ch. 7001 from the SIP.

A second set of regulations requested for removal by MPCA are contained in Minn. R. ch. 7011. This includes a large portion of the rules in Minn. R. 7011.1200, which relate to Standards of Performance for waste combustors. The rules as currently approved into the SIP have been repealed by MPCA, and Minnesota's new rules governing these sources have been submitted to EPA as a 111(d) plan. EPA agrees with MPCA that the new rules do not need to be considered for inclusion into the SIP. MPCA also repealed the state standards of performance for portland cement plants in Minn. R. 7011.0800, as there are no existing portland cement plants in the state. All new plants would be subject to 40 CFR part 60, subpart F, “Standards of Performance for Portland Cement Plants,” that was incorporated by reference by the state in Minn. R. 7011.0830. Finally, the permitting exemption for concrete manufacturing plants was repealed from Minn. R. 7011.0860 and moved to Minn. R. ch. 7008. EPA concurs with Minnesota's request and is removing these regulations from Minn. R. ch. 7011 in the SIP.

A final set of regulations requested for removal, Minn. R. 7023.1010 through 7023.1105, concern the Minneapolis/St. Paul vehicle inspection and maintenance program. The Minneapolis/St. Paul carbon monoxide (CO) nonattainment area was redesignated to attainment on October 29, 1999, at 64 FR 58344, effective November 29, 1999. MPCA explained that the Minnesota Legislature determined Minn. R. 7023.1010 through 7023.1105 to be obsolete and deleted or repealed the rules due to the state's termination of the vehicle inspection and maintenance program as a result of the area's attainment of the CO NAAQS. Therefore, in addition to Minn. R. 7023.1010 through 7023.1105, MPCA also requested that Minnesota Statutes 116.60 through 116.65, which comprised the vehicle inspection and maintenance program, be removed from the SIP. In its submittal MPCA states that the rules and the Statutes are no longer necessary as the area has achieved the NAAQS for CO. However, in their March 23, 1998, request to redesignate the Minneapolis/St. Paul CO nonattainment area to attainment, Minnesota retained the vehicle inspection and maintenance program as a contingency measure in the maintenance plan for the area. EPA approved the Minneapolis/St. Paul CO maintenance plan into the SIP as part of the October 29, 1999, redesignation of the area. Because the CO maintenance plan is still in effect for the Minneapolis/St. Paul area, EPA finds that the vehicle inspection and maintenance program (Minn. R. 7023.1010 through 7023.1105 and Minnesota Statutes 116.60 through 116.65) needs to be retained as part of the Minnesota SIP. Therefore EPA is disapproving the state's request to remove Minn. R. 7023.1010 through 7023.1105 and Minnesota Statutes 116.60 through 116.65 from the Minnesota SIP.

II. What action is EPA taking?

EPA is approving the request made by MPCA on May 5, 2008, to revise and update Minnesota's air rules in the Minnesota SIP. In addition, this action removes obsolete permit, portland cement plant and waste combustor rules from the SIP. EPA is not taking action on revisions to Minn. R. ch. 7007, Rules Governing Air Emission Permits, as the state withdrew this portion of their submittal from EPA consideration. EPA is also deferring rulemaking on changes to Minn. R. ch. 7002 and Minn. R. ch. 7008 until MPCA resubmits Minn. R. ch. 7007 for approval into the SIP. Finally, EPA is retaining the Minneapolis/St. Paul vehicle inspection and maintenance program as part of the Minnesota SIP. The codification of this rulemaking delineates the revised SIP.

We are publishing this action without prior proposal because we view this as a noncontroversial amendment and anticipate no adverse comments. However, in the proposed rules section of this Federal Register publication, we are publishing a separate document that will serve as the proposal to approve the state plan amendment if relevant adverse written comments are filed. This rule will be effective October 11, 2011 without further notice unless we receive relevant adverse written comments by September 9, 2011. If we receive such comments, we will withdraw this action before the effective date by publishing a subsequent document that will withdraw the final action. All public comments received will then be addressed in a subsequent final rule based on the proposed action. The EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective October 11, 2011.

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the state, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 11, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Hydrocarbons, Incorporation by reference, Intergovernmental relations, Lead, New source review, Nitrogen dioxide, Ozone, Particulate matter, Sulfur oxides, Volatile organic compounds.

Dated: July 29, 2011.
Susan Hedman,
Regional Administrator, Region 5.

40 CFR part 52 is amended as follows:

PART 52—[AMENDED]

1. The authority citation for part 52 continues to read as follows:

Authority: 42 U.S.C. 7401 et seq.

Subpart Y—Minnesota

2. In § 52.1220 the table in paragraph (c) is amended by revising the entries for “CHAPTER 7005 DEFINITIONS AND ABBREVIATIONS”, “CHAPTER 7009 AMBIENT AIR QUALITY STANDARDS”, “CHAPTER 7011 STANDARDS FOR STATIONARY SOURCES”, “CHAPTER 7017 MONITORING AND TESTING REQUIREMENTS”, and “CHAPTER 7019 EMISSION INVENTORY REQUIREMENTS” to read as follows:

§ 52.1220 Identification of plan.

* * * * *

(c) * * *

EPA-Approved Minnesota Regulations
Minnesota citation | Title/subject | State effective date | EPA approval date | Comments
* * * * * * *
CHAPTER 7005 DEFINITIONS AND ABBREVIATIONS
7005.0100 | Definitions | 11/19/07 | 08/10/11, [Insert page number where the document begins] |
7005.0110 | Abbreviations | 07/93-06/94 | 08/10/11, [Insert page number where the document begins] | 18 SR 1412.
* * * * * * *
CHAPTER 7009 AMBIENT AIR QUALITY STANDARDS
7009.0010 | Definitions | 10/18/93 | 05/24/95, 60 FR 27411
7009.0020 | Prohibited emissions | 10/18/93 | 05/24/95, 60 FR 27411
7009.0050 | Interpretation and measurement methodology, except for hydrogen sulfide | 06/01/99 | 08/10/11, [Insert page number where the document begins]
7009.0060 | Measurement methodology for hydrogen sulfide | 07/94-06/95 | 08/10/11, [Insert page number where the document begins] | 19 SR 550.
7009.0070 | Time of compliance | 10/18/93 | 05/24/95, 60 FR 27411. | 7.
7009.0080 | State ambient air quality standards | 06/01/99 | 08/10/11, [Insert page number where the document begins] |
Air Pollution Episodes
7009.1000 | Air pollution episodes | 03/18/96 | 08/10/11, [Insert page number where the document begins] |
7009.1010 | Definitions | 10/18/93 | 05/24/95, 60 FR 27411. |
7009.1020 | Episode levels | 10/18/93 | 05/24/95, 60 FR 27411. |
7009.1030 | Episode declaration | 10/18/93 | 05/24/95, 60 FR 27411. |
7009.1040 | Control actions | 01/12/98 | 08/10/11, [Insert page number where the document begins] |
7009.1050 | Emergency powers | 10/18/93 | 05/24/95, 60 FR 27411. |
7009.1060 | Table 1 | 10/18/93 | 05/24/95, 60 FR 27411 |
7009.1070 | Table 2: emission reduction objectives for particulate matter | 10/18/93 | 05/24/95, 60 FR 27411. |
7009.1080 | Table 3: emission objectives for sulfur oxides | 10/18/93 | 05/24/95, 60 FR 27411. |
7009.1090 | Table 4: emission reduction objectives for nitrogen oxides | 10/18/93 | 05/24/95, 60 FR 27411. |
7009.1100 | Table 5: emission reduction objectives for hydrocarbons | 10/18/93 | 05/24/95, 60 FR 27411. |
7009.1110 | Table 6: emission reduction objectives for carbon monoxide | 10/18/93 | 05/24/95, 60 FR 27411. |
Adoption of Federal Regulations
7009.9000 | Determining conformity of general Federal actions to state or Federal implementation plans | 11/20/95 | 04/23/97, 62 FR 19674. |
CHAPTER 7011 STANDARDS FOR STATIONARY SOURCES
Generally
7011.0010 | Applicability of standards of performance | 06/01/99 | 08/10/11, [Insert page number where the document begins] |
7011.0020 | Circumvention | 10/18/93 | 05/24/95, 60 FR 27411. |
Control Equipment
7011.0060 | Definitions | 11/19/07 | 08/10/11, [Insert page number where the document begins] |
7011.0061 | Incorporation by reference | 11/19/07 | 08/10/11, [Insert page number where the document begins] |
7011.0065 | Applicability | 11/19/07 | 08/10/11, [Insert page number where the document begins] |
7011.0070 | Listed control equipment and control equipment efficiencies | 11/19/07 | 08/10/11, [Insert page number where the document begins] |
7011.0072 | Requirements for certified hoods | 11/19/07 | 08/10/11, [Insert page number where the document begins] |
7011.0075 | Listed control equipment general requirements | 11/19/07 | 08/10/11, [Insert page number where the document begins] |
7011.0080 | Monitoring and record keeping for listed control equipment | 11/19/07 | 08/10/11, [Insert page number where the document begins] |
Emission Standards for Visible Air Contaminants
7011.0100 | Scope | 10/18/93 | 05/24/95, 60 FR 27411. |
7011.0105 | Visible emission restrictions for existing facilities | 07/13/98 | 08/10/11, [Insert page number where the document begins] |
7011.0110 | Visible emission restrictions for new facilities | 01/12/98 | 08/10/11, [Insert page number where the document begins] |
7011.0115 | Performance tests | 07/93-06/94 | 08/10/11, [Insert page number where the document begins] | 18 SR 1412.
Control of Fugitive Pariculate Matter
7011.0150 | Preventing particulate matter from becoming airborne | 03/18/96 | 08/10/11, [Insert page number where the document begins] |
Indirect Heating Fossil-Fuel-Burning Equipment
7011.0500 | Definitions | 10/18/93 | 05/24/95, 60 FR 27411. |
7011.0505 | Determination of applicable standards of performance | 10/18/93 | 05/24/95, 60 FR 27411. |
7011.0510 | Standards of performance for existing indirect heating equipment | 07/13/98 | 08/10/11, [Insert page number where the document begins] |
7011.0515 | Standards of performance for new indirect heating equipment | 07/13/98 | 08/10/11, [Insert page number where the document begins] |
7011.0520 | Allowance for stack height for indirect heating equipment | 10/18/93 | 05/24/95, 60 FR 27411.
7011.0525 | High heating value | 10/18/93 | 05/24/95, 60 FR 27411.
7011.0530 | Performance test methods | 10/18/93 | 05/24/95, 60 FR 27411
7011.0535 | Performance test procedures | 01/12/98 | 08/10/11, [Insert page number where the document begins]
7011.0540 | Derate | 10/18/93 | 05/24/95, 60 FR 27411.
7011.0545 | Table I: existing indirect heating equipment | 10/18/93 | 05/24/95, 60 FR 27411.
7011.0550 | Table II: new indirect heating equipment | 10/18/93 | 05/24/95, 60 FR 27411.
7011.0551 | Record keeping and reporting for indirect heating units combusting solid waste | 05/11/98 | 08/10/11, [Insert page number where the document begins]
7011.0553 | Nitrogen oxides emission reduction requirements for affected sources | 07/94-06/95 | 08/10/11, [Insert page number where the document begins] | 19 SR 1666.
Direct Heating Fossil-Fuel-Burning Equipment
7011.0600 | Definitions | 10/18/93 | 05/24/95, 60 FR 27411. |
7011.0605 | Determination of applicable standards of performance | 10/18/93 | 05/24/95, 60 FR 27411. |
7011.0610 | Standards of performance for fossil-fuel-burning direct heating equipment | 07/13/98 | 08/10/11, [Insert page number where the document begins] |
7011.0615 | Performance test methods | 10/18/93 | 05/24/95, 60 FR 27411. |
7011.0620 | Performance test procedures | 01/12/98 | 08/10/11, [Insert page number where the document begins] |
7011.0625 | Record keeping and reporting for direct heating units combusting solid waste | 05/11/98 | 08/10/11, [Insert page number where the document begins] |
Industrial Process Equipment
7011.0700 | Definitions | 10/18/93 | 05/24/95, 60 FR 27411
7011.0705 | Scope | 10/18/93 | 05/24/95, 60 FR 27411.
7011.0710 | Standards of performance for pre-1969 industrial process equipment | 07/13/98 | 08/10/11, [Insert page number where the document begins] |
7011.0715 | Standards of performance for post-1969 industrial process equipment | 10/18/93 | 05/24/95, 60 FR 27411. |
7011.0720 | Performance test methods | 10/18/93 | 05/24/95, 60 FR 27411. |
7011.0725 | Performance test procedures | 07/93-06/94 | 08/10/11, [Insert page number where the document begins] | 18 SR 1412.
7011.0730 | Table 1 | 11/19/07 | 08/10/11, [Insert page number where the document begins] |
7011.0735 | Table 2 | 10/18/93 | 05/24/95, 60 FR 27411
Concrete Manufacturing Plant Standards Of Performance
7011.0850 | Definitions | 04/21/03 | 08/10/11, [Insert page number where the document begins] |
7011.0852 | Standards of performance for concrete manufacturing plants | 11/23/98 | 08/10/11, [Insert page number where the document begins] |
7011.0854 | Concrete manufacturing plant control equipment requirements | 11/23/98 | 08/10/11, [Insert page number where the document begins] |
7011.0857 | Preventing particulate matter from becoming airborne | 11/23/98 | 08/10/11, [Insert page number where the document begins] |
7011.0858 | Noise | 11/23/98 | 08/10/11, [Insert page number where the document begins] |
7011.0859 | Shutdown and breakdown procedures | 11/23/98 | 08/10/11, [Insert page number where the document begins] |
7011.0865 | Incorporations by reference | 04/21/03 | 08/10/11, [Insert page number where the document begins] |
7011.0870 | Stage-one vapor recovery | 04/21/03 | 08/10/11, [Insert page number where the document begins] |
Hot Mix Asphalt Plants
7011.0900 | Definitions | 06/01/99 | 08/10/11, [Insert page number where the document begins] |
7011.0903 | Compliance with ambient air quality standards | 04/15/96 | 08/10/11, [Insert page number where the document begins] |
7011.0905 | Standards of performance for existing asphalt concrete plants | 04/15/96 | 08/10/11, [Insert page number where the document begins] |
7011.0911 | Maintenance of dryer burner | 04/15/96 | 08/10/11, [Insert page number where the document begins] |
7011.0913 | Hot mix asphalt plant materials, fuels, and additives operating requirements | 05/24/04 | 08/10/11, [Insert page number where the document begins] |
7011.0917 | Asphalt plant control equipment requirements | 11/29/04 | 08/10/11, [Insert page number where the document begins] |
7011.0920 | Performance tests | 04/15/96 | 08/10/11, [Insert page number where the document begins] |
7011.0922 | Operational requirements and limitations from performance tests | 04/15/96 | 08/10/11, [Insert page number where the document begins] |
Bulk Agricultural Commodity Facilities
7011.1000 | Definitions | 10/18/93 | 05/24/95, 60 FR 27411. |
7011.1005 | Standards of performance for dry bulk agricultural commodity facilities | 11/19/07 | 08/10/11, [Insert page number where the document begins] |
7011.1010 | Nuisance | 10/18/93 | 05/24/95, 60 FR 27411. |
7011.1015 | Control requirements schedule | 10/18/93 | 05/24/95, 60 FR 27411. |
Coal Handling Facilities
7011.1100 | Definitions | 10/18/93 | 05/24/95, 60 FR 27411. |
7011.1105 | Standards of performance for certain coal handling facilities | 01/12/98 | 08/10/11, [Insert page number where the document begins] |
7011.1110 | Standards of performance for existing outstate coal handling facilities | 01/12/98 | 08/10/11, [Insert page number where the document begins] |
7011.1115 | Standards of performance for pneumatic coal-cleaning equipment and thermal dryers at any coal handling facility | 10/18/93 | 05/24/95, 60 FR 27411. |
7011.1120 | Exemption | 10/18/93 | 05/24/95, 60 FR 27411. |
7011.1125 | Cessation of operations | 10/18/93 | 05/24/95, 60 FR 27411. |
7011.1135 | Performance test procedures | 07/93-06/94 | 08/10/11, [Insert page number where the document begins] | 18 SR 1412.
7011.1140 | Dust suppressant agents | 10/18/93 | 05/24/95, 60 FR 27411. |
Waste Combustors
7011.1201 | Definitions | 05/11/98 | 08/10/11, [Insert page number where the document begins] |
7011.1205 | Incorporations by reference | 05/11/98 | 08/10/11, [Insert page number where the document begins] |
Incinerators
7011.1300 | Definitions | 10/18/93 | 05/24/95, 60 FR 27411. |
7011.1305 | Standards of performance for existing sewage sludge incinerators | 07/13/98 | 08/10/11, [Insert page number where the document begins] |
7011.1310 | Standards of performance for new sewage sludge incinerators | 01/12/98 | 08/10/11, [Insert page number where the document begins] |
7011.1315 | Monitoring of operations | 10/18/93 | 05/24/95, 60 FR 27411. |
7011.1320 | Performance test methods | 10/18/93 | 05/24/95, 60 FR 27411. |
7011.1325 | Performance test procedures | 07/93-06/94 | 08/10/11, [Insert page number where the document begins] | 18 SR 1412.
Petroleum Refineries
7011.1400 | Definitions | 10/18/93 | 05/24/95, 60 FR 27411. |
7011.1405 | Standards of performance for existing affected facilities at petroleum refineries | 07/13/98 | 08/10/11, [Insert page number where the document begins] |
7011.1410 | Standards of performance for new affected facilities at petroleum refineries | 07/13/98 | 08/10/11, [Insert page number where the document begins] |
7011.1415 | Exemptions | 01/12/98 | 08/10/11, [Insert page number where the document begins] |
7011.1420 | Emission monitoring | 03/01/99 | 08/10/11, [Insert page number where the document begins] |
7011.1425 | Performance test methods | 10/18/93 | 05/24/95, 60 FR 27411. |
7011.1430 | Performance test procedures | 07/93-06/94 | 08/10/11, [Insert page number where the document begins] | 18 SR 1412.
Liquid Petroleum And Volatile Organic Liquid Storage Vessels
7011.1500 | Definitions | 06/01/99
7011.1505 | Standards of performance for storage vessels | 10/18/93 | 05/24/95, 60 FR 27411. |
7011.1510 | Monitoring of operations | 10/18/93 | 05/24/95, 60 FR 27411. |
7011.1515 | Exception | 10/18/93 | 05/24/95, 60 FR 27411. |
Sulfuric Acid Plants
7011.1600 | Definitions | 01/12/98 |  |
7011.1605 | Standards of performance of existing sulfuric acid production units | 10/18/93 | 05/24/95, 60 FR 27411. |
7011.1615 | Continuous emission monitoring | 03/01/99 | 08/10/11, [Insert page number where the document begins] |
7011.1620 | Performance test methods | 10/18/93 | 05/24/95, 60 FR 27411. |
7011.1625 | Performance test procedures | *1 | 08/10/11, [Insert page number where the document begins] |
7011.1630 | Exceptions | 07/93-06/94 | 08/10/11, [Insert page number where the document begins] | 18 SR 1412.
Nitric Acid Plants
7011.1700 | Definitions | 10/18/93 | 05/24/95, 60 FR 27411. |
7011.1705 | Standards of performance for existing nitric acid production units | 01/12/98 | 08/10/11, [Insert page number where the document begins] |
7011.1715 | Emission monitoring | 03/01/99 | 08/10/11, [Insert page number where the document begins] |
7011.1720 | Performance test methods | 10/18/93 | 05/24/95, 60 FR 27411. |
7011.1725 | Performance test procedures | 07/93-06/94 | 08/10/11, [Insert page number where the document begins] | 18 SR 1412.
Emission Standards For Inorganic Fibrous Materials
7011.2100 | Definitions | 10/18/93 | 05/24/95, 60 FR 27411. |
7011.2105 | Spraying of inorganic fibrous materials | 10/18/93 | 05/24/95, 60 FR 27411. |
Stationary Internal Combustion Engines
7011.2300 | Standards of performance for stationary internal combustion engines | 02/21/95 | 08/10/11, [Insert page number where the document begins] |
CHAPTER 7017 MONITORING AND TESTING REQUIREMENTS
7017.0100 | Establishing violations | 02/28/95 | 10/14/97, 62 FR 53239. |
Compliance Assurance Monitoring
7017.0200 | Incorporation by reference | 05/24/04 | 08/10/11, [Insert page number where the document begins] |
Continuous Monitoring Systems
7017.1002 | Definitions | 03/01/99 | 08/10/11, [Insert page number where the document begins] |
7017.1004 | Applicability | 03/01/99 | 08/10/11, [Insert page number where the document begins] |
7017.1006 | Requirement to install monitor | 03/01/99 | 08/10/11, [Insert page number where the document begins] |
7017.1010 | Incorporation of Federal monitoring requirements by reference | 03/01/99 | 08/10/11, [Insert page number where the document begins] |
7017.1020 | Continuous emission monitoring by affected sources | 07/94-06/95 | 08/10/11, [Insert page number where the document begins] | 19 SR 1666.
7017.1030 | Agency access to witness or conduct tests | 03/01/99 | 08/10/11, [Insert page number where the document begins] |
7017.1035 | Testing required | 03/01/99 | 08/10/11, [Insert page number where the document begins] |
7017.1040 | Installation requirements | 03/01/99 | 08/10/11, [Insert page number where the document begins] |
7017.1050 | Monitor certification and recertification test | 03/01/99 | 08/10/11, [Insert page number where the document begins] |
7017.1060 | Precertification test requirements | 03/01/99 | 08/10/11, [Insert page number where the document begins] |
7017.1070 | Certification test procedures | 03/01/99 | 08/10/11, [Insert page number where the document begins] |
7017.1080 | Certification test report requirements | 03/01/99 | 08/10/11, [Insert page number where the document begins] |
7017.1090 | Monitor operational requirements | 03/01/99 | 08/10/11, [Insert page number where the document begins] |
7017.1100 | Evidence of noncompliance | 03/01/99 | 08/10/11, [Insert page number where the document begins] |
7017.1110 | Excess emissions reports | 03/01/99 | 08/10/11, [Insert page number where the document begins] |
7017.1120 | Submittals | 03/01/99 | 08/10/11, [Insert page number where the document begins] |
7017.1130 | Record keeping | 03/01/99 | 08/10/11, [Insert page number where the document begins] |
7017.1135 | Applicability | 03/01/99 | 08/10/11, [Insert page number where the document begins] |
7017.1140 | CEMS design requirements | 03/01/99 | 08/10/11, [Insert page number where the document begins] |
7017.1150 | CEMS testing company requirement | 03/01/99 | 08/10/11, [Insert page number where the document begins] |
7017.1160 | CEMS monitoring data | 03/01/99 | 08/10/11, [Insert page number where the document begins] |
7017.1170 | Quality assurance and control requirements for CEMS | 03/01/99 | 08/10/11, [Insert page number where the document begins] |
7017.1180 | Quality control reporting and notification requirements for CEMS | 03/01/99 | 08/10/11, [Insert page number where the document begins] |
7017.1185 | Applicability | 03/01/99 | 08/10/11, [Insert page number where the document begins] |
7017.1190 | COMS design requirements | 03/01/99 | 08/10/11, [Insert page number where the document begins] |
7017.1200 | COMS monitoring data | 03/01/99 | 08/10/11, [Insert page number where the document begins] |
7017.1210 | Quality assurance and control requirements for COMS | 03/01/99 | 08/10/11, [Insert page number where the document begins] |
7017.1220 | Quality assurance and control reporting requirements for COMS | 03/01/99 | 08/10/11, [Insert page number where the document begins] |
Performance Tests
7017.2001 | Applicability | 07/13/98 | 08/10/11, [Insert page number where the document begins] |
7017.2005 | Definitions | 11/19/07 | 08/10/11, [Insert page number where the document begins] |
7017.2010 | Incorporation of test methods by reference | 07/13/98 | 08/10/11, [Insert page number where the document begins] |
7017.2015 | Incorporation of Federal testing requirements by reference | 07/13/98 | 08/10/11, [Insert page number where the document begins] |
7017.2018 | Submittals | 05/24/04 | 08/10/11, [Insert page number where the document begins] |
7017.2020 | Performance tests general requirements | 11/19/07 | 08/10/11, [Insert page number where the document begins] |
7017.2025 | Operational requirements and limitations | 03/01/99 | 08/10/11, [Insert page number where the document begins] |
7017.2030 | Performance test pretest requirements | 03/01/99 | 08/10/11, [Insert page number where the document begins] |
7017.2035 | Performance test reporting requirements | 07/13/98 | 08/10/11, [Insert page number where the document begins] |
7017.2040 | Certification of performance test results | 07/13/98 | 05/13/02, 67 FR 31963 |
7017.2045 | Quality assurance requirements | 07/13/98 | 08/10/11, [Insert page number where the document begins] |
7017.2050 | Performance test methods | 07/13/98 | 08/10/11, [Insert page number where the document begins] |
7017.2060 | Performance test procedures | 07/13/98 | 08/10/11, [Insert page number where the document begins] |
CHAPTER 7019 EMISSION INVENTORY REQUIREMENTS
7019.1000 | Shutdowns and breakdowns | 06/01/99 | 08/10/11, [Insert page number where the document begins] |
7019.3000 | Emission inventory | 11/19/07 | 08/10/11, [Insert page number where the document begins] |
7019.3020 | Calculation of actual emissions for emission inventory | 11/19/07 | 08/10/11, [Insert page number where the document begins] |
7019.3030 | Method of calculation | 11/19/07 | 08/10/11, [Insert page number where the document begins] |
7019.3040 | Continuous emission monitor (CEM) data | 03/01/99 | 08/10/11, [Insert page number where the document begins] |
7019.3050 | Performance test data | 11/19/07 | 08/10/11, [Insert page number where the document begins] |
7019.3060 | Volatile organic compound (VOC) material balance | 1997 | 08/10/11, [Insert page number where the document begins] | 21 SR 165.
7019.3070 | So material balance | 1997 | 08/10/11, [Insert page number where the document begins] | 21 SR 165.
7019.3080 | Emission factors | 11/19/07 | 08/10/11, [Insert page number where the document begins] |
7019.3090 | Enforceable limitations | 1997 | 08/10/11, [Insert page number where the document begins] | 21 SR 165.
7019.3100 | Facility proposal | 1997 | 08/10/11, [Insert page number where the document begins] | 21 SR 165.
* * * * * * *

* * * * *

[FR Doc. 2011-20210 Filed 8-9-11; 8:45 am]

BILLING CODE 6560-50-P